FEDERAL COMMUNICATIONS COMMISSION

47 CFR Parts 36 and 54

[WC Docket No. 03-109; DA 07-1241]

Wireline Competition Bureau Seeks To Refresh the Record on Lifeline and Link-Up

AGENCY: Federal Communications Commission.

ACTION: Proposed rule, comments requested.

SUMMARY: By this document, the Wireline Competition Bureau (Bureau) seeks to refresh the record on issues raised in the Further Notice of Proposed Rulemaking, 69 FR 34629, June 22, 2004, in the Lifeline and Link-Up docket. In that docket, the Commission sought comment on whether the income-based criterion in the federal default eligibility criteria should be increased to 150% of the Federal Poverty Guidelines (FPG) to make phone service affordable to more low-income individuals and families. The Commission also sought to explore whether adoption of rules governing the advertisement of the Lifeline/Link-Up program, as opposed to guidelines, would strengthen the operation of these programs.

DATES: Comments are due on or before August 24, 2007. Reply comments are due on or before September 10, 2007.

ADDRESSES: All filings must be addressed to the Commission's Secretary, Marlene H. Dortch, Office of the Secretary, Federal Communications Commission, 445 12th Street, SW., Washington, DC. Comments may be submitted, identified by WC Docket No. 03-109, by any of the following methods:

• Federal eRulemaking Portal: http://www.regulations.gov. Follow the instructions for submitting comments.

• Agency Web Site: http://www.fcc.gov. Follow the instructions for submitting comments on the Electronic Comment Filing System (ECFS) http://www.fcc.gov/cgb/ecfs/.

• E-mail: To Dana.Walton-Bradford@fcc.gov. Include WC Docket No. 03-109 in the subject line of the message.

• Fax: To the attention of Dana Walton-Bradford at 202-418-1932. Include WC Docket No. 03-109 on the cover page.

• Mail: All filings must be addressed to the Commission's Secretary, Marlene H. Dortch, Office of the Secretary, Federal Communications Commission, 445 12th Street, SW., Washington, DC 20554. Parties should send a copy of their filings to Dana Walton-Bradford, Telecommunications Access Policy Division, Wireline Competition Bureau, Federal Communications Commission, Room 5-A321, 445 12th Street, SW., Washington, DC 20554.

• Public inspection, purchase, or download: The full text of the document summarized here is available for inspection and copying during normal business hours in the FCC Reference Center, Portals II, 225 12th Street, SW., Room CY-A257, Washington, DC 20504. The complete text of this document also may be purchased from the Commission's copy contractor, Best Copy and Printing, Inc., 445 12th Street, SW., Room, CY-B402, Washington, DC 20554, and may also be downloaded at: http://www.fcc.gov.

People with Disabilities: To request materials in accessible formats for people with disabilities (braille, large print, electronic files, audio format), send an e-mail to fcc504@fcc.gov or call the Consumer & Governmental Affairs Bureau at 202-418-0530 (voice), 202-418-0432 (tty). Instructions: All submissions received must include the agency name and docket number. All comments received will be posted without change to http://www.fcc.gov/cgb/ecfs/, including any personal information provided. For detailed instructions on submitting comments and additional information on the rulemaking process, see the “Comment Filing Procedures” heading of the SUPPLEMENTARY INFORMATION section of this document.

FOR FURTHER INFORMATION CONTACT: Gina Spade, Wireline Competition Bureau, Telecommunications Access Policy Division, (202) 418-7400, or Dana Walton-Bradford, Wireline Competition Bureau, Telecommunications Access Policy Division, (202) 418-7400.

SUPPLEMENTARY INFORMATION: This is a summary of the Commission's Public Notice in WC Docket No. 03-109, released March 12, 2007 (DA 07-1241). The full text of this document is available for inspection and copying during normal business hours in the FCC Reference Center, Portals II, 445 12th St. SW., Room CY-A257, Washington, DC 20554. The complete text of this document also may be purchased from the Commission's copy contractor, Best Copy and Printing, Inc., 445 12th Street, SW., Room, CY-B402, Washington, DC 20554. The full text may also be downloaded at: http://www.fcc.gov. By this document, the Bureau seeks to refresh the record on issues in the Further Notice of Proposed Rulemaking, in the Lifeline and Link-Up docket, WC Docket No. 03-109. Currently, federal default criteria specify that a consumer is eligible for Lifeline or Link-Up support when the consumer's income is at or below 135% of the Federal Poverty Guidelines (FPG), or if the consumer participates in one of several federal assistance programs, such as Temporary Assistance for Needy Families (TANF) or the National School Lunch's free lunch program (NSL). In the Further Notice of Proposed Rulemaking issued on April 24, 2004, the Commission sought comment on whether the income-based criterion in the federal default eligibility criteria should be increased to 150% of the FPG to make phone service affordable to more low-income individuals and families. The Commission also sought to explore whether adoption of rules governing the advertisement of the Lifeline/Link-Up program, as opposed to guidelines, would strengthen the operation of these programs. For example, should an Eligible Telecommunications Carrier (ETC) be required to distribute materials in a second language if a certain percentage of the population in a given area speaks a language other than English, and if so, what percentage would trigger the requirement? The Commission now seeks to refresh the record on these and all other issues raised in the Further Notice of Proposed Rulemaking. The Bureau requests that parties refresh the record with any new information or arguments they believe to be relevant to deciding the issues still pending. The refreshed record will enable the Commission to undertake appropriate consideration of the issue of how best to provide support through the Lifeline and Link-Up programs to more low-income individuals and families.

Comment Filing Procedures

2. Pursuant to §§ 1.415 and 1.419 of the Commission's rules, 47 CFR 1.415, 1.419, interested parties may file comments are due on or before August 24, 2007 and reply comments are due on or before September 10, 2007. Comments may be filed using the Commission's Electronic Comment Filing System (ECFS) or by filing paper copies. Comments filed through the ECFS can be sent as an electronic file via the Internet to http://www.fcc.gov/cgb/ecfs/. Generally, only one copy of an electronic submission must be filed. If multiple docket or rulemaking numbers appear in the caption of the proceeding, commenters must transmit one electronic copy of the comments to each docket or rulemaking number referenced in the caption. In completing the transmittal screen, commenters should include their full name, U.S. Postal Service mailing address, and the applicable docket or rulemaking number, in this case, WC Docket No. 03-109. Parties may also submit an electronic comment by Internet e-mail. To get filing instructions for e-mail comments, commenters should send an e-mail to ecfs@fcc.gov, and should include the following words in the body of the message, “get form.” A sample form and directions will be sent in response. Parties who choose to file by paper must file an original and four copies of each filing. If more than one docket or rulemaking number appears in the caption of this proceeding, commenters must submit two additional copies for each additional docket or rulemaking number.

3. Paper filings can be sent by hand or messenger delivery, by commercial overnight courier, or by first-class or overnight U.S. Postal Service mail (although we continue to experience delays in receiving U.S. Postal Service mail). Parties are strongly encouraged to file comments electronically using the Commission's ECFS.

4. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

5. All filings must be addressed to the Commission's Secretary, Marlene H. Dortch, Office of the Secretary, Federal Communications Commission, 445 12th Street, SW., Washington, DC 20554. Parties should also send a copy of their filings to Dana Walton-Bradford, Telecommunications Access Policy Division, Wireline Competition Bureau, Federal Communications Commission, Room 5-A321, 445 12th Street, SW., Washington, DC 20554, or by e-mail to Dana.Walton-Bradford@fcc.gov. Parties shall also serve one copy with the Commission's copy contractor, Best Copy and Printing, Inc. (BCPI), Portals II, 445 12th Street, SW., Room CY-B402, Washington, DC 20554, (202) 488-5300, or via e-mail to fcc@bcpiweb.com.

6. Documents in WC Docket No. 03-109 will be available for public inspection and copying during business hours at the FCC Reference Information Center, Portals II, 445 12th St. SW., Room CY-A257, Washington, DC 20554. The documents may also be purchased from BCPI, telephone (202) 488-5300, facsimile (202) 488-5563, TTY (202) 488-5562, e-mail fcc@bcpiweb.com.

7. To request materials in accessible formats for people with disabilities (braille, large print, electronic files, audio format), send an e-mail to fcc504@fcc.gov or call the Consumer & Governmental Affairs Bureau at 202-418-0530 (voice), 202-418-0432 (tty).

8. This matter shall be treated as a “permit-but-disclose” proceeding in accordance with the Commission's ex parte rules. Persons making oral ex parte presentations are reminded that memoranda summarizing the presentations must contain summaries of the substance of the presentations and not merely a listing of the subjects discussed. More than a one- or two-sentence description of the views and arguments presented generally is required. Other requirements pertaining to oral and written presentations are set forth in section 1.1206(b) of the Commission's rules.

Federal Communications Commission.
Kirk S. Burgee,
Chief of Staff, Wireline Competition Bureau.

[FR Doc. E7-14105 Filed 7-24-07; 8:45 am]

BILLING CODE 6712-01-P